DEPARTMENT OF TRANSPORTATION

Surface Transportation Board

[STB Docket No. AB-33 (Sub-No. 209)]

Union Pacific Railroad Company—Discontinuance—in Utah County, UT

On September 14, 2007, Union Pacific Railroad Company (UP) filed with the Surface Transportation Board (Board) an application for permission to discontinue service over a line of railroad known as the Elberta Line (Line). The Line consists of four end-to-end line segments consisting of the Tintic Industrial Lead from milepost 5.52 to milepost 26.00, the West Tintic Industrial Lead from milepost 26.00 to milepost 27.23, the Goshen Valley Branch from milepost 0.0 to milepost 3.80 (equation milepost 2.89 = milepost 2.98), and the Iron King Branch from milepost 0.0 to milepost 2.15, extending for a total distance of 27.57 miles in Utah County, Utah. The Line traverses U.S. Postal Service Zip Codes 84626, 84633, and 84651, and includes a station at Elberta.

The Line does contain federally granted rights-of-way.¹ Any documentation in UP's possession will be made available promptly to those requesting it. The applicant's entire case for discontinuance (case-in-chief) was filed with the application.

¹ The Line contains several segments of federally granted rights-of-way that are reversionary and that collectively account for approximately 50% of the property affected by the proposed discontinuance.

The Line has appeared on UP's system diagram map in category 1 since July 7, 2003.

The interest of railroad employees will be protected by the conditions set forth in Oregon Short Line R. Co.)—Abandonment—Goshen, 360 I.C.C. 91 (1979).

Any interested person may file with the Board written comments concerning the proposed discontinuance or protests (including the protestant's entire opposition case) by October 29, 2007. Because this is a discontinuance proceeding, and not an abandonment, trail use/rail banking and public use requests are not appropriate. Also, only offers of financial assistance (OFA) under 49 U.S.C. 10904 to subsidize (not purchase) the line will be entertained.

Persons opposing the discontinuance who wish to participate actively and fully in the process should file a protest. Persons who oppose the discontinuance but who do not wish to participate fully in the process by submitting verified statements of witnesses containing detailed evidence should file comments. Persons seeking information concerning the filing of protests should refer to 49 CFR 1152.25.

In addition, a commenting party, or protestant may provide: (i) An OFA to subsidize rail service under 49 U.S.C. 10904 (due 120 days after the application is filed or 10 days after the application is granted by the Board, whichever occurs sooner); and (ii) recommended provisions for protection of the interests of employees.

The line sought to be discontinued will be available for subsidy for continued rail use, if the Board decides to permit the discontinuance, in accordance with applicable laws and regulations (49 U.S.C. 10904 and 49 CFR 1152.27). Each OFA must be accompanied by a $1,300 filing fee. See 49 CFR 1002.2(f)(25). No subsidy arrangement approved under 49 U.S.C. 10904 shall remain in effect for more than 1 year unless otherwise mutually agreed by the parties (49 U.S.C. 10904(f)(4)(B)). Applicant will promptly provide upon request to each interested party an estimate of the subsidy required to keep the line in operation. The carrier's representative to whom inquiries may be made concerning subsidy terms is set forth below.

Any filing in response to this notice must refer to STB Docket No. AB-33 (Sub-No. 209) and must be submitted either via the Board's e-filing format or in the traditional paper format. Any person using e-filing should attach a document and otherwise comply with the instructions found on the Board's Web site at http://www.stb.dot.gov at the “E-FILING” link. Any person submitting a filing in the traditional paper format should send an original and 10 paper copies of the filing (and also an electronic version) with a certificate of service to: Surface Transportation Board, 395 E Street, SW., Washington, DC 20423-0001. In addition, one copy of each filing in this proceeding must be sent (and may be sent by e-mail only if service by e-mail is acceptable to the recipient) to: Mack H. Shumate, Jr., Senior General Attorney, 101 North Wacker Drive, Room 1920, Chicago, IL 60606. Except as otherwise set forth in part 1152, every document filed with the Board must be served on all parties to the discontinuance proceeding. 49 CFR 1104.12(a).

Persons seeking further information concerning discontinuance procedures may contact the Board's Office of Public Services at (202) 245-0230 or refer to the full abandonment and discontinuance regulations at 49 CFR part 1152. Questions concerning environmental issues may be directed to the Board's Section of Environmental Analysis (SEA) at (202) 245-0305. [Assistance for the hearing impaired is available through the Federal Information Relay Service (FIRS) at 1-800-877-8339.]

SEA has determined that this action is exempt from environmental reporting requirements under 49 CFR 1105.6(c) and from historic reporting requirements under 49 CFR 1105.8. Consequently, SEA concludes that this action does not require the preparation of an environmental assessment.

Board decisions and notices are available on our Web site at http://www.stb.dot.gov.

Decided: September 27, 2007.
By the Board, David M. Konschnik, Director, Office of Proceedings.
Vernon A. Williams,
Secretary.

[FR Doc. E7-19504 Filed 10-3-07; 8:45 am]

BILLING CODE 4915-01-P